DEPARTMENT OF COMMERCE

International Trade Administration

[A-583-831]

Stainless Steel Sheet and Strip in Coils From Taiwan: Notice of Extension of Time Limit for the Final Results of the 2007-2008 Administrative Review

AGENCY: Import Administration, International Trade Administration, Department of Commerce

FOR FURTHER INFORMATION CONTACT: Henry Almond at (202) 482-0049, AD/CVD Operations, Office 2, Import Administration, International Trade Administration, U.S. Department of Commerce, 14th Street, and Constitution Avenue, NW., Washington, DC 20230.

Background

On August 5, 2009, the Department of Commerce (the Department) published in the Federal Register the preliminary results and partial rescission of the antidumping duty administrative review of stainless steel sheet and strip in coils from Taiwan covering the period July 1, 2007, through June 30, 2008. See Stainless Steel Sheet and Strip in Coils From Taiwan: Preliminary Results and Rescission in Part of Antidumping Duty Administrative Review, 74 FR 39055 (August 5, 2009). The final results for this administrative review are currently due no later than December 3, 2009, the next business day after 120 days from the date of publication of the preliminary results of review.

Extension of Time Limit for the Final Results

Section 751(a)(3)(A) of the Tariff Act of 1930, as amended (the Act), requires the Department to issue the final results of an administrative review within 120 days after the date on which the preliminary results are published. If it is not practicable to complete the review within that time period, section 751(a)(3)(A) of the Act allows the Department to extend the deadline for the final results to a maximum of 180 days after the date on which the preliminary results are published.

We determine that it is not practicable to complete this administrative review within the original time limits mandated by section 751(a)(3)(A) of the Act because we require additional time to properly consider the complex issues related to middleman dumping raised by interested parties during the briefing process in this case. Therefore, the Department is extending the time limit for completion of the final results of this review by 60 days, in accordance with section 751(a)(3)(A) of the Act. The final results are now due no later than February 1, 2010.

We are issuing and publishing this notice in accordance with sections 751(a)(1) and 777(i)(l) of the Act.

Dated: November 13, 2009.
John M. Andersen,
Acting Deputy Assistant Secretary for Antidumping and Countervailing Duty Operations.

[FR Doc. E9-27836 Filed 11-20-09; 8:45 am]

BILLING CODE 3510-DS-M